DEPARTMENT OF HOMELAND SECURITY

Federal Emergency Management Agency

[Docket ID: FEMA-2023-0019; OMB No. 1660-0058]

Agency Information Collection Activities: Proposed Collection; Comment Request; Fire Management Assistance Grant Program

AGENCY: Federal Emergency Management Agency, Department of Homeland Security.

ACTION: 60-Day notice of revision and request for comments.

SUMMARY: The Federal Emergency Management Agency, as part of its continuing effort to reduce paperwork and respondent burden, invites the general public to take this opportunity to comment on an extension, with change, of a currently approved information collection. In accordance with the Paperwork Reduction Act of 1995, this notice seeks comments concerning the information collected as required for Fire Management Assistance Grant Program (FMAGP) eligibility determinations, grants management, and compliance with other Federal laws and regulations.

DATES: Comments must be submitted on or before October 10, 2023.

ADDRESSES: To avoid duplicate submissions to the docket, please submit comments at www.regulations.gov under Docket ID FEMA-2023-0019. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: To ensure your comments, and or recommendations are directed to the best point of contact, as well as to provide internal quality assurance measures, please direct all inquiries to Antonio Jones, FMAG Program Manager, at (540) 326-1928 or fema-recovery-pa-policy@fema.dhs.gov. You may contact the Information Management Division for copies of the proposed collection of information at email address: FEMA-Information-Collections-Management@fema.dhs.gov.

SUPPLEMENTARY INFORMATION: The information collected is required for Fire Management Assistance Grant Program (FMAGP) eligibility determinations, grants management, and compliance with other Federal laws and regulations. The FMAGP was established under section 420 of the Robert T. Stafford Disaster Relief and Emergency Assistance Act, 42 U.S.C 5187, as amended by § 303 of the Disaster Mitigation Act of 2000 and authorizes the President to provide assistance to any state or local government for the mitigation, management, and control of any fire on public or private forest land or grassland that threatens such destruction as would constitute a major disaster. 44 CFR part 204 specifies the information collections necessary to facilitate the provision of assistance under the FMAGP. Additionally, the information collection is used by both FEMA Regional and State staff to facilitate the declaration request and grant administration processes of FMAGP, as well as end of year internal reporting of overall declaration requests and estimated grant outlays.

Collection of Information

Title: Fire Management Assistance Grant Program.

Type of Information Collection: Extension, with change, of a currently approved information collection.

OMB Number: 1660-0058.

FEMA Forms: FEMA Form FEMA Form FF-104-FY-21-165 (formerly FEMA Form 078-0-1), Principal Advisor's Report; FEMA Form FF-104-FY-21-166 (formerly FEMA Form 078-0-1), Request for Fire Management Assistance Declaration; FEMA Form FF-104-FY-21-167 (formerly FEMA Form 089-0-24), Request for Fire Management Assistance Subgrant; FEMA Form FF-104-FY-23-100, Application for Management Costs; FEMA Form FF-104-FY-23-101, Project Application for Emergency Protective Measures; FEMA Form FF-104-FY-23-102, Project Application for Firefighting Activities; FEMA Form FF-104-FY-23-103 Time Extensions; No form, FEMA-State Agreement and Amendment; No form, State Administrative Plan for Fire Management Assistance; No form, Appeal Letter; No form, Duplication of Benefits Letter; and No form, Training Sessions.

Abstract: The information collected is required for Fire Management Assistance Grant Program (FMAGP) eligibility determinations, grants management, and compliance with other Federal laws and regulations. The FMAGP was established under the Robert T. Stafford Disaster Relief and Emergency Assistance Act and authorizes the President to provide assistance to any state or local government for the mitigation, management, and control of any fire on public or private forest land or grassland that threatens such destruction as would constitute a major disaster. Federal regulations specify the information collections necessary to facilitate the provision of assistance under the FMAGP. Additionally, the information collection is used by both FEMA Regional and State staff to facilitate the declaration request and grant administration processes of FMAGP, as well as end of year internal reporting of overall declaration requests and estimated grant outlays.

Affected Public: State, local or Tribal government.

Estimated Number of Respondents: 278.

Estimated Number of Responses: 953.

Estimated Total Annual Burden Hours: 1,211.

Estimated Total Annual Respondent Cost: $105,406.

Estimated Respondents' Operation and Maintenance Costs: $0.

Estimated Respondents' Capital and Start-Up Costs: $0.

Estimated Total Annual Cost to the Federal Government: $682,930.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-17280 Filed 8-10-23; 8:45 am]

BILLING CODE 9111-24-P